DEPARTMENT OF COMMERCE

National Institute of Standards and Technology

Request for Participation on Developing Industrial Wireless Systems Best Practices Guidelines

AGENCY: National Institute of Standards and Technology, Commerce.

ACTION: Notice.

SUMMARY: The Intelligent Systems Division of NIST is forming a technical working group (TWG) to develop best practices guidelines in selecting and deploying industrial wireless solutions within industrial environments such as process control and manufacturing. Guidelines will consider the entire wireless ecosystem within factories with emphasis on wireless networks operating on the factory floor. This includes factory/plant instrumentation, control systems, and back-haul networks. The guidelines will be technology and vendor agnostic and will address the current needs of industry to have independent guidelines based on user requirements and measurement science research.

DATES: Intention to participate must be received by 180 days after date of publication in the Federal Register.

ADDRESSES: Intention to participate may be submitted in one of two ways.

• By sending an email to iwstwg@nist.gov.

• By written request: National Institute of Standards and Technology ATTN: Richard Candell 100 Bureau Drive, Stop 8230 Gaithersburg, MD 20899-8615.

Please direct media inquiries to NIST's Office of Public Affairs at 301-975-2762.

SUPPLEMENTARY INFORMATION: More information on industrial wireless systems research may be found on the NIST home page for Industrial Wireless Systems at https://www.nist.gov/programs-projects/wireless-systems-industrial-environments.

Kevin Kimball,
NIST Chief of Staff.

[FR Doc. 2017-09503 Filed 5-10-17; 8:45 am]

BILLING CODE 3510-13-P